DEPARTMENT OF HEALTH AND HUMAN SERVICES

Administration for Community Living

Request for Information: Family Caregiving Advisory Council; Correction

AGENCY: Administration for Community Living, HHS.

ACTION: Notice of correction.

SUMMARY: The Administration for Community Living (ACL) published a document in the Federal Register on December 9, 2019, requesting information to the Advisory Council to Support Grandparents Raising Grandchildren seeking information to be used in the development of the Initial Report, as required by the Supporting Grandparents Raising Grandchildren Act (SGRG). The ACL wishes to change a line in the titling of the notice in order to avoid confusion for potential commenters.

SUPPLEMENTARY INFORMATION: Correction: In the Federal Register of December 9, 2019, in FR doc. 2019-26437, on page 67270, in the second column, the second line should be changed to “Request for Information: Advisory Council to Support Grandparents Raising Grandchildren.” In addition, the DATES section due date is incorrect. It should read as follows: “DATES: Comments on the request for information must be submitted by 11:59 p.m. (EST) on February 7, 2019.”

FOR FURTHER INFORMATION CONTACT: SGRG.Act@acl.hhs.gov

Dated: December 9, 2019.
Lance Robertson,
Administrator and Assistant Secretary for Aging.

[FR Doc. 2019-26880 Filed 12-12-19; 8:45 am]

BILLING CODE 4154-01-P